COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: April 27, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

On December 20, December 27, 2002, January 10, and January 17, 2003, the Committee for Purchase From People Who Are Blind or Severely Disabled published notice (67 FR 77962, 79044/79045, 68 FR 1434, and 2498) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Skilcraft Aerosol Cleaners

Product/NSN: Clean “N” Disinfect/7930-00-NIB-0223.

Product/NSN: Glass Pro/7930-00-NIB-0191.

Product/NSN: Maximum/7930-00-NIB-0192.

Product/NSN: Office Plus/7930-00-NIB-0190.

Product/NSN: X-Spot Carpet Stain Remover/7930-00-NIB-0224.

NPA: Lighthouse for the Blind, St. Louis, Missouri.

Contract Activity: Office Supplies & Paper Products Acquisition Center, New York, New York.

Services

Service Type/Location: Grounds Maintenance, Naval & Marine Corps Reserve Center-Sacramento, Sacramento, California.

NPA: Easter Seal Society of Superior California, Sacramento, California.

Contract Activity: Naval Facilities Engineering Command, Alameda, California.

Service Type/Location: Janitorial/Custodial, U.S. Army Reserve Center, Blacklick, Ohio.

NPA: Licking-Knox Goodwill Industries, Inc., Newark, Ohio.

Contract Activity: Headquarters, 88th Regional Support Command, Fort Snelling, Minnesota.

Service Type/Location: Janitorial/Custodial, VA Central Iowa Health Care System, Day Care Center, Des Moines, Iowa.

NPA: Goodwill Solutions, Inc., Des Moines, Iowa.

Contract Activity: VA Central Iowa Health Care System, Des Moines, Iowa.

Service Type/Location: Mess Attendant, Willow Grove Naval Air Station Joint Reserve Base, Liberty Dining Hall, Horsham, Pennsylvania.

NPA: Occupational Training Center of Burlington County, Mt. Holly, New Jersey.

Contract Activity: Fleet Industrial Supply Center Norfolk DET Philadelphia, Philadelphia, Pennsylvania.

This action does not affect current contracts awarded prior to the effective date of this addition or options that may be exercised under those contracts.

Louis R. Bartalot,
Director, Program Analysis and Evaluation.

[FR Doc. 03-7492 Filed 3-27-03; 8:45 am]

BILLING CODE 6353-01-P